DEPARTMENT OF HEALTH AND HUMAN SERVICES

Centers for Medicare & Medicaid Services

42 CFR Parts 412, 413, and 476

[CMS-1518-CN]

RIN 0938-AQ24

Medicare Program; Proposed Changes to the Hospital Inpatient Prospective Payment Systems for Acute Care Hospitals and the Long-Term Care Hospital Prospective Payment System and Fiscal Year 2012 Rates; Corrections

AGENCY: Centers for Medicare & Medicaid Services (CMS), HHS.

ACTION: Correction of proposed rule.

SUMMARY: This document corrects technical and typographical errors in the proposed rule entitled “Medicare Program; Proposed Changes to the Hospital Inpatient Prospective Payment Systems for Acute Care Hospitals and the Long-Term Care Hospital Prospective Payment System and Fiscal Year 2012 Rates” which appeared in the May 5, 2011, Federal Register.

FOR FURTHER INFORMATION CONTACT: Tzvi Hefter, (410) 786-4487.

SUPPLEMENTARY INFORMATION:

I. Background

In FR Doc. 2011-9644 of May 5, 2011 (76 FR 25788), there were a number of technical and typographical errors that are identified and corrected in the Correction of Errors section.

II. Summary of Errors

A. Errors in the Preamble

On page 25796, in summarizing our proposed changes to the policies and payment rates for the long-term care hospital (LTCH) prospective payment system (PPS), we erroneously stated that we were proposing a FY 2012 LTCH PPS documentation and coding adjustment. Therefore, in section III. of this correction notice, we correct this.

On page 25843, in our discussion of processing of 25 diagnosis codes and 25 procedures codes, we erroneously included the term “not” in our statement regarding the completion of the expansion and our ability to process up to 25 diagnosis codes and 25 procedures codes. Therefore, in section III. of this correction notice, we correct this error.

On page 25898, we erroneously stated that collection for the structural measure we proposed for the FY 2014 payment determination would begin in July 2012 with respect to the time period January 1, 2012 through June 30, 2012, instead of collection to begin in April 2013 with respect to the time period January 1, 2012 through December 31, 2012. Therefore, in section III. of this correction notice, we correct these errors.

On page 25919, in our discussion of the proposed data submission requirements for structural measures, we included a sentence that contains the proposed additional structural measure for FY 2014 as well as information regarding the proposed alignment of the submission deadline for all structural measures without clear delineation of when the proposed alignment begins. Therefore, we correct this error in section III. of this correction notice.

On page 25923, we made several typographical errors regarding the fiscal year for which we are proposing to change the submission deadline to be used for the Data Accuracy and Completeness Acknowledgement. Therefore, in section III. of this correction notice, we correct these errors.

On page 25985 and 25989, in our discussion of the LTCH quality measures, we noted that the National Quality Forum (NQF) endorsement number for the CMS quality measure, Percent of Residents With Pressure Ulcers That Are New or Worsened [Short Stay], was NH-012-10. We note that the NQF number NH-012-10 has been replaced by the current endorsement number, which is NQF-0678. Therefore, in section III. of this correction notice, we correct these errors.

B. Errors in the Addendum

On page 26043, we list Table 2— Acute Care Hospitals Case-Mix Indexes for Discharges Occurring in Federal Fiscal Year 2010; Proposed Hospital Wage Indexes for Federal Fiscal Year 2012; Hospital Average Hourly Wages for Federal Fiscal Year 2010 (2006 Wage Data), 2011 (2007 Wage Data), and 2012 (2008 Wage Data); and 3-Year Average of Hospital Average Hourly Wages as one of the tables that will be available only through the Internet. The version of Table 2 that was posted via the Internet on the CMS Web site at the time the proposed rule was filed for public inspection at the Office of the Federal Register inadvertently omitted the wage indices for multicampus providers. Therefore, we have corrected these errors and have posted a document with corrections to Table 2 on the CMS Web site at http://www.cms.hhs.gov/AcuteInpatientPPS/01_overview.asp).

III. Correction of Errors

In FR Doc. 2011-9644 of May 5, 2011 (76 FR 25788), make the following corrections:

1. On page 25796, second column, sixth full paragraph, lines 8 through 11, the phrase “use under the LTCH PPS for FY 2012, the proposed documentation and coding adjustment under the LTCH PPS for FY 2012, and the proposed rebasing and” is corrected to read “use under the LTCH PPS for FY 2012 and the proposed rebasing and”.

2. On page 25843, third column, first full paragraph, line 33 the phrase “We have not completed” is corrected to read “We have completed”.

3. On page 25898, first column, first paragraph,

a. Line 2, the date “July 2012” is corrected to read “April 2013”.

b. Line 4, the date “June 30, 2012” is corrected to read “December 31, 2012”.

4. On page 25919, second column, first full paragraph, lines 4 through 12, the sentence “We are proposing to add one additional structural measure for the FY 2014 payment determination, Participation in a Systematic Clinical Database Registry for General Surgery, and to align the submission deadline for all structural measures with the submission deadline for the fourth quarter of the chart abstracted measures.” is corrected to read as follows “We are proposing to add one additional structural measure for the FY 2014 payment determination, Participation in a Systematic Clinical Database Registry for General Surgery. Beginning with FY 2013, we propose to align the submission deadline for all structural measures with the submission deadline for the fourth quarter of the chart abstracted measures.”.

5. On page 25923, second column, last paragraph,

a. Line 7, the phrase “FY 2012” is corrected to read “FY 2013”.

b. Line 15, the phrase “FY 2012” is corrected to read “FY 2013”.

6. On page 25985,

a. Second column, second full paragraph, line 6, the reference number “NQF NH-012-10” is corrected to read “NQF 0678”.

b. Third column, first full paragraph, line 7, the reference number “NQF NH-012-10” is corrected to read “NQF 0678”.

7. On page 25989, lower two-thirds of the page, third column, first partial paragraph, line 3, the reference number “NQF NH-012-10” is corrected to read “NQF 0678”.

(Catalog of Federal Domestic Assistance Program No. 93.773, Medicare—Hospital Insurance; and Program No. 93.774, Medicare—Supplementary Medical Insurance Program)

Dated: June 8, 2011.
Dawn L. Smalls,
Executive Secretary to the Department.

[FR Doc. 2011-14679 Filed 6-9-11; 4:15 pm]

BILLING CODE 4120-01-P